DEPARTMENT OF THE INTERIOR

Bureau of Land Management

[NV-056-7122-EU-F-686; N-79047]

Notice of Realty Action; Non-Competitive Sale in the Las Vegas Valley

AGENCY: Bureau of Land Management, Interior.

ACTION: Notice of realty action.

SUMMARY: The Bureau of Land Management (BLM) proposes to sell a 1.556 acre triangular parcel of public land in the northwest portion of the Las Vegas Valley, Nevada, to the owner of lands adjoining two sides of the parcel. The third side is bounded by a street right-of-way. The adjoining private owner has requested that the parcel be sold to him by direct sale at not less than the appraised market value of the land.

DATES: On or before July 3, 2006, interested parties may submit comments concerning the proposed sale to the BLM Field Manager, Las Vegas Field Office, at the address stated below.

ADDRESSES: Las Vegas Field Office, Bureau of Land Management, 4701 N. Torrey Pines Drive, Las Vegas, NV 89130.

FOR FURTHER INFORMATION CONTACT: Shawna Woods, Realty Specialist at (702) 515-5099.

SUPPLEMENTARY INFORMATION: Pursuant to a request of Mr. Randy Black Jr., the BLM proposes to sell a parcel of public land located in the northwest portion of the Las Vegas Metropolitan Area and further described below. The subject parcel contains 1.556-gross acres in the form of an isolated triangle, resulting from the recent realignment of Durango Drive, which is now a major arterial with a median and three lanes of traffic in each direction. The subject site is surrounded by land controlled by Mr. Black. Due to the development size, shape, and access issues, the real estate appraisal report prepared for BLM concluded that the highest and best use of the site would be for assemblage with the adjacent property controlled by Mr. Black. As part of a larger parcel, the subject site has greater development potential and fewer limits on possible use due to size, shape and access. The subject parcel would be sold at not less than the fair market value of $546,900.00. The following described land in Clark County, Nevada, has been examined and found suitable for direct sale pursuant to section 203 of the Federal Land Policy and Management Act of 1976 ((FLPMA) Public Law 94-579, as amended , 43 U.S.C. 1713) and the Southern Nevada Public Land Management Act (SNPLMA, Pub. L. 105-263) and 43 CFR 2711.3-3.

Mount Diablo Meridian, Nevada

T. 19 S., R 60 E.,

Section 29, portions of the following aliquot parts: NE¼NE¼NW¼SE¼NE¼, NWA¼NE¼NW¼SE¼NE¼, NE¼SW¼NE¼NW¼SE¼NE¼, N½SE¼NE¼NW¼SE¼NE¼, NE¼NE¼NW¼NW¼SE¼NE¼, NW¼NE¼NW¼NW¼SE¼NE¼, NE¼SW¼NE¼NW¼NW¼SE¼NE¼, N½SE¼NE¼NW¼NW¼SE¼NE¼, N½NE¼NW¼NW¼NW¼SE¼NE¼, NE¼NW¼NW¼NW¼NW¼SE¼NE¼.

(Approximately 1.556 acres)

This proposed action is in conformance with the Las Vegas Resource Management Plan, approved on October 5, 1998. The plan has been reviewed and it is determined the proposed action conforms with land use plan decision LD-1 established in accordance with section 202 of FLPMA, as amended (43 U.S.C. 1713). A direct sale to Mr. Randy Black, Jr. is being proposed, and is considered appropriate, in this case, as the transfer of the Federal non-mineral interest to any other entity would not protect existing equities of the surrounding private land owned by Mr. Black. A direct sale may be utilized when the tract identified is an integral part of a project and speculative bidding would jeopardize a timely completion and economic viability of the project, there is a need to recognize an authorized use such as an existing business which could suffer a substantial economic loss if the tract were purchased by other than the authorized user and the adjoining ownership pattern and access indicate a direct sale is appropriate. The land is not required for any Federal purpose. The sale will be made subject to the applicable provisions of FLPMA and the regulations of the Secretary of the Interior. When patented, title to the land will continue to be subject to the following:

1. A reservation of a right-of-way thereon for ditches or canals constructed by the authority of the United States, Act of August 30, 1890 (26 Stat. 391, 43 U.S.C. 945).

2. A reservation to the United States of oil and gas, sodium and potassium and salable minerals together with the right to prospect for, mine and remove such deposits from the same under applicable law and such regulations as the Secretary of the Interior may prescribe.

3. Valid existing rights of record, including, but not limited to those documented on the BLM public land records at the time of sale.

4. Rights for a roadway granted to the City of Las Vegas, its successors and assigns, by BLM right-of-way No. N-74262, pursuant to section 501 of FLPMA (43 U.S.C. 1761).

The patentee, by accepting a patent, covenants and agrees to indemnify, defend, and hold the United States harmless from any costs, damages, claims, causes of action, penalties, fines, liabilities, and judgments of any kind or nature arising from the past, present, and future acts or omissions of the patentees or their employees, agents, contractors, or lessees, or any third-party, arising out of or in connection with the patentees' use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, State, and local laws and regulations that are now or may in the future become, applicable to the real property; (2) Judgments, claims, or demands of any kind assessed against the United States; (3) Costs, expenses, or damages of any kind incurred by the United States; (4) Releases or threatened releases of solid or hazardous waste(s) and/or hazardous substances(s), as defined by Federal or State environmental laws, off, on, into or under land, property and other interests of the United States; (5) Activities by which solids or hazardous substances or wastes, as defined by Federal and State environmental laws are generated, released, stored, used or otherwise disposed of on the patented real property, and any cleanup response, remedial action or other actions related in any manner to said solid or hazardous substances or wastes; or (6) Natural resource damages as defined by Federal and State law. Patentee shall stipulate that it will be solely responsible for compliance with all applicable Federal, state and local environmental and regulatory provisions, throughout the life of the facility, including any closure and/or post-closure requirements that may be imposed with respect to any physical plant and/or facility upon the real property under any Federal, state or local environmental laws or regulatory provisions. This covenant shall be construed as running with the above described parcel of land patented or otherwise conveyed by the United States, and may be enforced by the United States in a court of competent jurisdiction.

No warranty of any kind, express or implied is given or will be given by the United States as to the title, physical condition or potential uses of the land proposed for sale. However, to the extent required by law, such land is subject to the requirements of section 120(h) of the Comprehensive Environmental Response Compensation and Liability Act (CERCLA), as amended (42 U.S. C. 9620(h)).

Publication of this notice in the Federal Register temporarily segregates the above described land from appropriation under the public land laws, including the mining laws. The segregative effect of this notice will terminate in the future as specified in 43 CFR 2711.1-3(c)). The above described land was previously segregated from mineral entry under BLM case file number N-66364, with record notation as of October 19, 1998. This previous segregation will terminate upon publication of this notice in the Federal Register.

Detailed information concerning the proposed sale, including an environmental assessment and the approved appraisal report is available for review at the BLM Las Vegas Field Office at the address above. The Field Manager, BLM, Las Vegas Field Office, will review the comments of all interested parties concerning the sale. To be considered, comments must be received at the BLM Las Vegas Field Office on or before the date stated above in this notice for that purpose. Any adverse comments will be reviewed by the BLM, Nevada State Director.

In the absence of any adverse comments, the decision will become effective on July 17, 2006. The lands will not be offered for sale until after the decision becomes effective.

(Authority: 43 CFR 2711.1-2(a)).

Dated: February 16, 2006.
Sharon DiPinto,
Assistant Field Manager, Division of Lands, Las Vegas, NV.

[FR Doc. E6-7544 Filed 5-17-06; 8:45 am]

BILLING CODE 4310-HC-P